DEPARTMENT OF JUSTICE

National Institute of Corrections

Solicitation for a Cooperative Agreement—Training Program Revision: National Sheriffs' Institute

AGENCY: National Institute of Corrections, Department of Justice

ACTION: Solicitation for a Cooperative Agreement

SUMMARY: The National Institute of Corrections (NIC), Jails Division, is seeking applications for the analysis for the current National Sheriffs' Institute, a leadership training program for first term sheriffs, and development of a new course curriculum.

Background: The National Sheriffs' Institute (NSI) was created in the early 1970s in response to a needs assessment conducted by the National Sheriffs' Association (NSA) that identified critical areas affecting the success of a sheriff's term of office. The NSA, with Law Enforcement Assistance Administration (LEAA) funds, supported the development of the core curriculum by the School of Public Administration, University of Southern California. From 1973-1981, the program was conducted with LEAA funds. From 1982-1991, when federal funds were not available to the NSI, sheriffs were required to attend at their own expense. In 1993, NIC joined with NSA to sponsor the program. It is now held twice a year at NIC's training center in Longmont, Colorado.

The program has undergone a variety of revisions since its inception. Over the years, it has evolved to focus on leadership, specifically as it applies to the Office of the Sheriff. It is now the only national leadership development program designed specifically for sheriffs. NIC views this program as critical for first-term sheriffs, since many sheriffs come to office with a law enforcement background, some management skills, and certain technical knowledge, but often have little or no preparation for their assumption of a leadership position.

The applicant should be aware that not only is this course specific to the leadership roles of sheriffs, but also that about 90% of sheriffs are from smaller, rural jurisdictions, which typically have severely limited resources and minimal staff. This will need to be considered during course development.

It has been several years since the NSI has been closely examined in its totality. Various refinements have been made, but in a rather piecemeal fashion. The entire program now needs a rigorous examination to ensure that (1) there is a consistent focus on leadership, (2) the concepts taught are current and applicable to roles and responsibilities of sheriffs, (3) all modules clearly contribute to achieving the goals of the course, (4) instructional strategies reflect adult learning theory and accommodate various learning styles, (5) the instructional design is learner centered, and (6) program participants are required to apply leadership concepts to their roles and activities as sheriffs. The analysis will be the basis for the development of a new curriculum. The current course is based on the sheriff's leadership role in five areas: (1) The political arena, (2) the criminal justice system, (3) the community, (4) his/her organization and staff, and (5) the technical arena. The course is two weeks long. The first week includes the following topics:

• The Sheriff in the American Justice System

• Decision Making

• Leadership Styles

• Language of Leadership

• Value-Centered Leadership

• Developing a Good Place to Work

• Building the Executive Team

• Exterior Forces Affecting the Office of the Sheriff

• Strategic Planning and Change

The second week covers a variety of subjects, such as power and influence, managing diversity, the politics of budgeting, media relations, legal issues, the principles of community policing, and public issues confronting the sheriff.

It is important to acknowledge that the NSI has an extensive history and tradition that provide the foundation for the course. However, in the development of a revised course curriculum, the applicant is not bound by the specific content, delivery strategies, or length of the current program. (Note, however, that the program may not exceed two weeks). NIC seeks applicants who are able to take into account the history and tradition of the NSI, but who also are able to bring a fresh perspective to the course.

Project Objectives: NIC wishes to analyze the current NSI in terms of the currency and relevance of content and the effectiveness of instructional strategies. Based on that analysis, NIC wishes to develop a revised course curriculum.

Scope of Work

Project description

The awardee will analyze the current NSI program and, based on that analysis, produce a complete, professionally-produced curriculum, with, at a minimum—

• a narrative overview of the program, describing the program's goals, characteristics of the target audience, the overall course framework, the rationale for the curriculum design, and an explanation of how the individual modules reinforce leadership concepts and relate to each other

• lesson plans for each module that detail content and provide for delivery strategies that require training participants to apply concepts to their roles and responsibilities as sheriffs

• instructional aids, such as handouts, computer-generated presentations, and other visual aids (visual aid must meet NIC's requirements for readability in a classroom setting)

• instructor's guide

• suggested readings for participants

• participant workbook that serves as a note-taking guide and provides all materials related to participant activities

• participant evaluations, including an end-of-program evaluation and a longer-term evaluation to determine if participants implement what they learn and the resulting benefits, if any

The applicant will be required to have all materials professionally edited for grammar, mechanics, spelling, and clarity. These materials will be delivered to NIC in one hard copy and on CD in Microsoft Word and PowerPoint format.

Project Schedule

The list below shows the major activities required to complete the project. Activities will begin upon award of this agreement and must be completed twenty-four months after the award date. The schedule for completion of activities should include the following, at a minimum.

• Meet with NIC staff for project overview and planning

• Review NSI materials provided by NIC

• Collect information on the leadership roles of the sheriff and related training needs, through literature research, interviews with sheriffs, attendance at an NSA conference, or other means

• Attend an NSI course in full and assess content, delivery strategies, and length

• Submit to NIC a written report that analyzes the current NSI in terms of, at a minimum, its adequacy in meeting the training needs of sheriffs regarding leadership, the currency and relevance of concepts taught, effectiveness of training delivery strategies, and quality and usefulness of program materials

• Meet with NIC staff regarding the written analysis

• Draft a proposed curriculum design, with the rationale for the design and an overview of content and delivery strategies

• Submit the proposed design to NIC for review

• Revise the proposed design based on comments from NIC

• Based on the agreed-upon design, draft program materials and submit to them to NIC as they are completed

• Revise draft materials based on NIC's comments

• Pilot the draft curriculum. This will be done during a scheduled NSI in Longmont (see dates below). If the applicant organization will instruct portions of the program, its fees and expenses must be charged to the cooperative agreement. NIC will choose and fund all other instructors, but the applicant is welcome to suggest potential instructors. Provision must be made to ensure instructors have program materials at least six weeks before the program so they can become familiar with them and ask any necessary clarification.

• Monitor the pilot program, in conjunction with NIC staff, for needed revision

• Revise program based on pilot

• Develop and submit final products, in hard copy (one) and on CD in Microsoft Word and PowerPoint format.

The awardee should make provision for two-three meetings with NIC staff—to be held in Longmont, Colorado—in addition to those listed above.

The National Sheriffs' Institute is conducted twice each federal fiscal year. One program remains in FY02, and that will be held on September 22-October 2, 2002. In FY03, the program will be held on April 27-May 9, 2003 and again on September 21 to October 3, 2003. In FY04, the program will be held in April and September, but the dates have yet to be set. Applicants for this cooperative agreement should develop their project schedules with these dates in mind.

Authority: Public Law 93-413.

Funds Available: The award will be limited to $145,000 (direct and indirect costs) and project activity must be completed within twenty-four months of the date of award. Funds may not be used for construction, or to acquire or build real property. This project will be a collaborative venture with the NIC Jails Division.

Application Procedures

Applications must be submitted in six copies to the Director, National Institute of Corrections, 320 First Street, NW., Room 5007, Washington, DC 20534. At least one copy of the application must have the applicant's original signature in blue ink. A cover letter must identify the responsible audit agency for the applicant's financial accounts.

Applications must be submitted using OMB Standard Form 424, Federal Assistance and attachments. The applications should be concisely written, typed double-spaced, and referenced to the project by the number and title given in this cooperative agreement announcement. The narrative portion of this grant application should include, at a minimum:

• A brief paragraph that indicates the applicant's understanding of the purpose of the document and the issues to be addressed;

• A brief paragraph that summarizes the project goals and objectives;

• A clear description of the methodology that will be used to complete the project and achieve its goals;

• A statement or chart of measurable project milestones and time lines for the completion of each;

• A description of the staffing plan for the project, including the role of each project staff, the time commitment for each, the relationship among the staff (who reports to whom), and an indication that all required staff will be available;

• A description of the qualifications of the applicant organization and each project staff;

• A budget that details all costs for the project, shows consideration for all contingencies for this project, and notes a commitment to work within the budget proposed (budget should be divided into object class categories as shown on application Standard Form 424A).

Documentation of the principals' and associates' relevant knowledge, skills, and abilities to carry out the described tasks must be included in the application. The application must also include a sample curriculum (includes all materials for the curriculum) developed by the applicant organization or by the curriculum-development specialist with whom the applicant intends to subcontract. The curriculum must be for a course that is at least three-days long.

Deadline for Receipt of Applications: Applications must be received by 4:00 p.m. on Tuesday, June 24, 2002. They should be addressed to Director, National Institute of Corrections, 320 First Street, NW, Room 5006, Washington, DC 20534. Applicants are encouraged to use Federal Express, UPS, or similar service to ensure delivery by the due date as mail at the National Institute of Corrections is still being delayed due to recent events. Hand delivered applications should be brought to 500 First Street, NW, Washington, DC 20534. The front desk will call (202) 307-3106, extension 0 for pickup.

ADDRESSES AND FURTHER INFORMATION: A copy of this announcement and the application forms may be obtained through the NIC web site: http.//www.nicic.org. (click on cooperative agreements). Requests for a hard copy of this announcement and the application forms should be directed to Judy Evens, Cooperative Agreement Control Office, National Institute of Corrections, 320 First Street, NW, Room 5007, Washington, DC 20534 or by calling 800-995-6423, ext. 44222, 202-307-3106, ext. 44222, or email: jevens@bop.gov. All technical and/or programmatic questions concerning this announcement should be directed to Ginny Hutchinson or Jim Barbee at 1960 Industrial Circle, Longmont, CO 80501, or by calling 800-995-6429, ext. 140 (G. Hutchinson) or ext. 138 (J. Barbee) or by email: vhutchinson@bop.gov or jbarbee@bop.gov.

Eligible Applicants: An eligible applicant is any state or general unit of local government, public or private agency, educational institution, organization, team, or individual with the requisite skills to successfully meet the outcome objectives of the project.

Review Considerations: Applications received under this announcement will be subjected to a NIC three to five member Peer Review Process. Among the criteria used to evaluate the applications are:

• Indication of a clear understanding of the project requirements;

• Background, experience, and expertise of the proposed project staff, including any subcontractors;

• Effectiveness of the creative approach to the project;

• Clear, concise description of all elements and tasks of the project, with sufficient and realistic time frames necessary to complete the tasks;

• Technical soundness of project design and methodology;

• Financial and administrative integrity of the proposal, including adherence to federal financial guidelines and processes;

• Sufficiently detailed budget that shows consideration of all contingencies for this project and commitment to work within the budget proposed;

• Indication of availability to meet with NIC staff at key points in document development.

• Quality of sample curriculum.

Preference will be given to applicants or applicant teams that can clearly demonstrate expertise in executive leadership development, have experience in working with sheriffs and knowledge about the responsibilities and challenges of the Office of Sheriff, and have expertise and experience in professional curriculum development.

Number of Awards: One (1).

NIC Application Number: 02J20. This number should appear as a reference line in your cover letter, in box 11 of Standard Form 424, and on the outside of the envelope in which the application is sent.

Catalog of Federal Domestic Assistance Number: 16.601.
Dated: May 2, 2002.
Morris L. Thigpen,
Director, National Institute of Corrections.

[FR Doc. 02-11286 Filed 5-6-02; 8:45 am]

BILLING CODE 4410-36-M